FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than July 7, 2016.

A. Federal Reserve Bank of Cleveland (Nadine Wallman, Vice President) 1455 East Sixth Street, Cleveland, Ohio 44101-2566. Comments can also be sent electronically to Comments.applications@clev.frb.org:

1. Helen Parrish Beach, Lexington, Kentucky, to acquire voting shares as part of a family control group of Genbeach Company, Inc., Winchester, Kentucky and thereby indirectly retain control of Peoples Exchange Bank, Winchester, Kentucky.

B. Federal Reserve Bank of Philadelphia (William Spaniel, Senior Vice President) 100 North 6th Street, Philadelphia, Pennsylvania 19105-1521. Comments can also be sent electronically to Comments.applications@phil.frb.org:

1. The Willits Family Partnership, and its proposed general partner, the Lydia Willits Bartholomew Trust #2, each of Malvern, Pennsylvania, and its trustee Jamie Bartholomew Aller, West Chester, Pennsylvania, together with the Lydia Willits Bartholomew Trust #1, Malvern, Pennsylvania, Andrew Marshall Bartholomew II, Malvern, Pennsylvania, and William Brinton Bartholomew, William Evans Lincoln Howard V, and Lydia Willits Bartholomew, each of West Chester, Pennsylvania, all together a group acting in concert to acquire voting shares of Malvern Bank Corporation, Malvern, Pennsylvania and thereby indirectly acquire shares of The National Bank of Malvern, Malvern, Pennsylvania.

Board of Governors of the Federal Reserve System, June 17, 2016.
Michele T. Fennell,
Assistant Secretary of the Board.

[FR Doc. 2016-14737 Filed 6-21-16; 8:45 am]

BILLING CODE 6210-01-P